DEPARTMENT OF ENERGY

Federal Energy Regulatory Commission

Combined Notice of Filings #1

October 29, 2010.

Take notice that the Commission received the following electric corporate filings:

Docket Numbers: EC10-98-000.

Applicants: GDF Suez S.A., International Power PLC.

Description: Supplemental Affidavit of Julie R. Solomon submitted by GDF Suez, S.A. its Indicated United States Subsidiaries and Electrabel S.A., International Power plc and its Indicated United States Subsidiaries.

Filed Date: 10/29/2010.

Accession Number: 20101029-5167.

Comment Date: 5 p.m. Eastern Time on Monday, November 8, 2010.

Take notice that the Commission received the following electric rate filings:

Docket Numbers: ER11-1936-000.

Applicants: TPF Generation Holdings, LLC.

Description: TPF Generation Holdings, LLC submits an application for authorization to make Market-Based Wholesale sales of energy, and certain ancillary services under FERC Electric Tariff, Original Volume No 1, to be effective 12/28/2010.

Filed Date: 10/29/2010.

Accession Number: 20101029-5001.

Comment Date: 5 p.m. Eastern Time on Friday, November 19, 2010.

Docket Numbers: ER11-1937-000.

Applicants: New York Independent System Operator, Inc.

Description: New York Independent System Operator, Inc. submits tariff filing per 35.13(a)(2)(iii): 205 Filing—Credit Requirements for Holding TCCs to be effective 1/19/2011.

Filed Date: 10/29/2010.

Accession Number: 20101029-5037.

Comment Date: 5 p.m. Eastern Time on Friday, November 19, 2010.

Docket Numbers: ER11-1938-000.

Applicants: California Power Exchange Corporation.

Description: California Power Exchange Corporation submits tariff filing per 35.12: California Power Exchange FERC Rate Schedule No. 1 to be effective 1/1/2011.

Filed Date: 10/29/2010.

Accession Number: 20101029-5045.

Comment Date: 5 p.m. Eastern Time on Friday, November 19, 2010.

Docket Numbers: ER11-1939-000.

Applicants: AP Gas & Electric (PA), LLC.

Description: AP Gas & Electric (PA), LLC submits tariff filing per 35.12: Petition for Approval of Initial Market-Based Rate Tariff to be effective 12/1/2010.

Filed Date: 10/29/2010.

Accession Number: 20101029-5055.

Comment Date: 5 p.m. Eastern Time on Friday, November 19, 2010.

Docket Numbers: ER11-1940-000.

Applicants: Florida Power Corporation.

Description: Florida Power Corporation submits tariff filing per 35.12: Filing to create Rate Schedules tariff identifier for Florida Power Corp. to be effective 10/29/2010.

Filed Date: 10/29/2010.

Accession Number: 20101029-5070.

Comment Date: 5 p.m. Eastern Time on Friday, November 19, 2010.

Docket Numbers: ER11-1941-000.

Applicants: Southwest Power Pool, Inc.

Description: Southwest Power Pool, Inc. submits tariff filing per 35.13(a)(2)(iii): 2028 Sunflower Electric Power Corporation NITSA and NOA to be effective 11/1/2010.

Filed Date: 10/29/2010.

Accession Number: 20101029-5076.

Comment Date: 5 p.m. Eastern Time on Friday, November 19, 2010.

Docket Numbers: ER11-1942-000.

Applicants: ISO New England Inc.

Description: ISO New England Inc. submits tariff filing per 35.13(a)(2)(iii): ISO-NE 2011 Capital Budget to be effective 1/1/2011.

Filed Date: 10/29/2010.

Accession Number: 20101029-5087.

Comment Date: 5 p.m. Eastern Time on Friday, November 19, 2010.

Docket Numbers: ER11-1943-000.

Applicants: ISO New England Inc.

Description: ISO New England Inc. submits tariff filing per 35.13(a)(2)(iii): 2011 Administrative Cost Budget to be effective 1/1/2011.

Filed Date: 10/29/2010.

Accession Number: 20101029-5089.

Comment Date: 5 p.m. Eastern Time on Friday, November 19, 2010.

Docket Numbers: ER11-1944-000.

Applicants: PJM Interconnection, LLC.

Description: PJM Interconnection, LLC submits tariff filing per 35.13(a)(2)(iii): DomVA Termination of Deferral Recovery Charge—ATT H-16E in PJM OATT to be effective 1/1/2011.

Filed Date: 10/29/2010.

Accession Number: 20101029-5092.

Comment Date: 5 p.m. Eastern Time on Friday, November 19, 2010.

Docket Numbers: ER11-1945-000.

Applicants: Wisconsin Public Service Corporation.

Description: Wisconsin Public Service Corporation submits tariff filing per 35.13(a)(2)(iii): Revised Service Agreements under W-2A Tariff to be effective 1/1/2011.

Filed Date: 10/29/2010.

Accession Number: 20101029-5093.

Comment Date: 5 p.m. Eastern Time on Friday, November 19, 2010.

Docket Numbers: ER11-1946-000.

Applicants: Gulf Oil Limited Partnership.

Description: Gulf Oil Limited Partnership submits tariff filing per 35.12: Gulf Oil FERC Electric Filing to be effective 10/29/2010.

Filed Date: 10/29/2010.

Accession Number: 20101029-5104.

Comment Date: 5 p.m. Eastern Time on Friday, November 19, 2010.

Docket Numbers: ER11-1947-000.

Applicants: ISO New England Inc.

Description: Request for Waiver of ISO New England Inc.

Filed Date: 10/29/2010.

Accession Number: 20101029-5110.

Comment Date: 5 p.m. Eastern Time on Friday, November 19, 2010.

Docket Numbers: ER11-1948-000.

Applicants: Wisconsin Public Service Corporation.

Description: Wisconsin Public Service Corporation submits tariff filing per 35.13(a)(2)(iii): Revised Attachment A Capacity Formula Rates for W-1A and W-2A Tariffs to be effective 7/23/2010.

Filed Date: 10/29/2010.

Accession Number: 20101029-5118.

Comment Date: 5 p.m. Eastern Time on Friday, November 19, 2010.

Docket Numbers: ER11-1949-000.

Applicants: NSTAR Electric Company.

Description: Notice of Termination of NSTAR Electric Company and National Grid.

Filed Date: 10/29/2010.

Accession Number: 20101029-5129.

Comment Date: 5 p.m. Eastern Time on Friday, November 19, 2010.

Docket Numbers: ER11-1950-000.

Applicants: Wisconsin Public Service Corporation.

Description: Wisconsin Public Service Corporation, Revised Capacity Ratings under Rate Schedule No. 51.

Filed Date: 10/29/2010.

Accession Number: 20101029-5135.

Comment Date: 5 p.m. Eastern Time on Friday, November 19, 2010.

Docket Numbers: ER11-1951-000.

Applicants: PJM Interconnection, LLC.

Description: PJM Interconnection, LLC submits tariff filing per 35.13(a)(2)(iii): ISA No. 2693, Queue O24, Lexington Chenoa Wind Farm LLC and ComEd to be effective 9/29/2010.

Filed Date: 10/29/2010.

Accession Number: 20101029-5139.

Comment Date: 5 p.m. Eastern Time on Friday, November 19, 2010.

Docket Numbers: ER11-1952-000.

Applicants: Southern California Edison Company.

Description: Southern California Edison Company submits tariff filing per 35.13(a)(1): 2011 CWIPBAA Update Filing to be effective 1/1/2011.

Filed Date: 10/29/2010.

Accession Number: 20101029-5140.

Comment Date: 5 p.m. Eastern Time on Friday, November 19, 2010.

Docket Numbers: ER11-1953-000.

Applicants: Interstate Power and Light Company.

Description: Interstate Power and Light Company submits tariff filing per 35.13(a)(2)(iii): IPL WPL—LBA Agreement to be effective 12/28/2010.

Filed Date: 10/29/2010.

Accession Number: 20101029-5142.

Comment Date: 5 p.m. Eastern Time on Friday, November 19, 2010.

Docket Numbers: ER11-1954-000.

Applicants: Wisconsin Power and Light Company.

Description: Wisconsin Power and Light Company submits tariff filing per 35.13(a)(2)(iii): IPL WPL—LBA Agreement to be effective 12/28/2010.

Filed Date: 10/29/2010.

Accession Number: 20101029-5143.

Comment Date: 5 p.m. Eastern Time on Friday, November 19, 2010.

Docket Numbers: ER11-1955-000.

Applicants: Dairyland Power Cooperative.

Description: Dairyland Power Cooperative submits tariff filing per 35.12: Supply and Voltage Control from Generation Sources to be effective 1/1/2011.

Filed Date: 10/29/2010.

Accession Number: 20101029-5146.

Comment Date: 5 p.m. Eastern Time on Friday, November 19, 2010.

Take notice that the Commission received the following electric securities filings:

Docket Numbers: ES11-4-000.

Applicants: Entergy Louisiana, LLC.

Description: Application for Authorization to Consent to an Increase in Borrowings in Connection With Nuclear Fuel Lease and Request for Waiver of Competitive Bidding Requirements.

Filed Date: 10/28/2010.

Accession Number: 20101028-5164.

Comment Date: 5 p.m. Eastern Time on Thursday, November 18, 2010.

Docket Numbers: ES11-5-000.

Applicants: The Detroit Edison Company.

Description: Application of The Detroit Edison Company for Authorization to Issue Securities.

Filed Date: 10/28/2010.

Accession Number: 20101028-5165.

Comment Date: 5 p.m. Eastern Time on Thursday, November 18, 2010.

Docket Numbers: ES11-6-000.

Applicants: Entergy Louisiana, LLC.

Description: Application of Entergy Louisiana, LLC, to Amend Existing Authorization under Federal Power Act pursuant to section 204.

Filed Date: 10/28/2010.

Accession Number: 20101028-5166.

Comment Date: 5 p.m. Eastern Time on Thursday, November 18, 2010.

Take notice that the Commission received the following open access transmission tariff filings:

Docket Numbers: OA08-34-005.

Applicants: Public Service Company of New Mexico.

Description: Notification Filing Pursuant to Order 890 and PNM Tariff Sections 19.10 and 32.5 for Q3 2010.

Filed Date: 10/29/2010.

Accession Number: 20101029-5038.

Comment Date: 5 p.m. Eastern Time on Friday, November 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-29044 Filed 11-17-10; 8:45 am]

BILLING CODE 6717-01-P